DEPARTMENT OF COMMERCE

Foreign-Trade Zones Board

[B-91-2012]

Foreign-Trade Zone 22—Chicago, IL, Notification of Proposed Production Activity, Abbott Laboratories, Inc., AbbVie, Inc. (Pharmaceutical Production), North Chicago, IL, Area

Abbott Laboratories, Inc. (Abbott) and AbbVie, Inc. (AbbVie) submitted a notification for expanded production authority within Subzones 22F and 22S, at sites located in the North Chicago and Lake County, Illinois, area. The facilities are used for the production of a wide variety of pharmaceutical and diagnostic products, medical devices and equipment. The notification conforming to the requirements of the regulations of the Board (15 CFR 400.22) was received on December 14, 2012.

Subzone 22F was approved by the Board in 1992 (Board Order 611, 12/14/1991, 57 FR 61045, 12/14/1992) and authority was later expanded in 1999 and 2009 (Board Order 1051, 8/30/1999, 64 FR 48578, 9/7/1999 and Board Order 1654, 12/18/2009, 75 FR 340-341, 1/5/2010). A minor boundary modification under 15 CFR 400.38 of the Board's regulations was approved, effective August 1, 2012, transferring two sites from SZ 22F at the Abbott facilities to AbbVie, now designated as Subzone 22S (S-66-2012).

Abbott and Abbvie are now requesting authority to use production inputs sourced from abroad that include: Peptones and their derivatives; other protein substances and their derivatives; and heterocyclic compounds, aromatic compounds, sulfanomides, and catalysts used in discovery, research and development (duty rates range from 3.7% to 6.5%).

Production under FTZ procedures could exempt Abbott/AbbVie from customs duty payments on the foreign status inputs used in export production for the additional activity proposed. On its domestic sales, for the foreign status inputs noted above, Abbott/AbbVie would be able to choose the duty rates during customs entry procedures that apply to the following additional pharmaceutical products that include active ingredients, placebo, and protein used in research and development: Placebo products intended for clinical trials; radioactive elements and isotopes and compounds other than those of subheadings 2844.10, 2844.20, and 2844.30; alloys; dispersions (including cermets); ceramic products and mixtures containing these elements; isotopes or compounds; radioactive residues; elements, isotopes and compounds with cobalt-60 radioactivity only; and other elements, isotopes and compounds: Americium-241, californium-252, curium-244, cesium-137, gadolinium-153, iridium-192, promethium-147, radium-266, selenium-75, or ytterbium-169; peptones and their derivatives; and other protein substances and their derivatives (duty free-6.4%). Customs duties also could possibly be deferred or reduced on foreign status production equipment.

Public comment is invited from interested parties. Submissions shall be addressed to the Board's Executive Secretary at the address below. The closing period for their receipt is January 30, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz. For further information, contact Diane Finver at Diane.Finver@trade.gov (202) 482-1367.

Dated: December 14, 2012.
Executive Secretary.

[FR Doc. 2012-30848 Filed 12-20-12; 8:45 am]

BILLING CODE P